DELAWARE RIVER BASIN COMMISSION

Notice of Commission Meeting and Public Hearing

Notice is hereby given that the Delaware River Basin Commission will hold an informal conference followed by a public hearing on Wednesday, September 1, 2004. The hearing will be part of the Commission's regular business meeting. Both the conference session and business meeting are open to the public and will be held at the Delaware River Basin Commission's offices at 25 State Police Drive in West Trenton, New Jersey.

The conference among the commissioners and staff will begin at 9:30 a.m. Topics of discussion will include: an update on the Water Resources Plan for the Delaware River Basin (“Basin Plan”) and the Watershed Summit scheduled for September 13-15; a proposal to amend the Water Quality Regulations, Water Code and Comprehensive Plan to designate the Lower Delaware River as Special Protection Waters; options available to provide interim water quality protection for the Lower Delaware pending the effective date of the proposed designation; a proposed rule to establish waste minimization plan requirements for point and non-point source discharges following issuance of a TMDL or assimilative capacity determination; a proposal to amend Resolution No. 2002-33 relating to the operation of Lake Wallenpaupack during drought watch, drought warning and drought conditions, in order to restore a distinction between drought operation of Lake Wallenpaupack and drought operation of the Mongaup Reservoir System and to insert a reference to flow and temperature targets in the upper Delaware River and in the West Branch Delaware, East Branch Delaware, and Neversink Rivers; recommendations of the Toxics Advisory Committee concerning the collection of additional point source data in accordance with Resolution No. 2003-27 for purposes of developing the Stage 2 TMDLs for PCBs in the Delaware Estuary; and a report on the PCB TMDL Implementation Advisory Committee meeting of August 11, 2004.

The subjects of the public hearing to be held during the 2:30 p.m. business meeting include the dockets listed below:

1. Exelon Generation Company, LLC D-69-210 CP Final (Revision 12). An application for temporary approval to modify the Operating Plan of the Limerick Generating Station (LGS), a nuclear-powered electric generating station located in Limerick Township, Montgomery County, Pennsylvania, regarding surface water withdrawal restrictions related to ambient water temperature in the Schuylkill River. The applicant proposes to demonstrate, under controlled conditions, that the withdrawal of Schuylkill River water can continue without adverse impact when the background water temperature exceeds 59° F, the maximum temperature at which withdrawals can be made under the current docket. In July 2004, an amended application and draft operating and monitoring plan was submitted after discussion with the Commission staff, the State of Pennsylvania and stakeholders. The amended application provides:

• A multi-year demonstration period during the remainder of the 2004 season through the 2007 season associated with flow and temperature restrictions in accordance with an approved operating and monitoring plan;

• Withdrawals of approximately one half (not to exceed 60 percent, 24 million gallons per day (mgd)) of LGS's consumptive water needs during times when the Schuylkill River 24-hour average river ambient water temperature exceeds 59° F and when river flow is at or below 1,791 cubic feet per second (cfs) (but above 560 cfs) at the gaging station at Pottstown;

• Withdrawals of all of LGS's consumptive water needs during times when the Schuylkill River 24-hour average river ambient water temperature exceeds 59° F and when river flow exceeds 1,791 cfs.;

• Maintenance of minimum flows below 27 cfs but at least 10 cfs in the East Branch Perkiomen Creek during the effective period of the demonstration;

• Development of flow management procedures to increase flows in the East Branch Perkiomen Creek above 10 cfs to support specific short-term recreational events;

• Allowing consumptive use augmentation credit for augmented Perkiomen Creek flow;

• Establish a restoration and monitoring fund based on $0.06/1000 gallons of augmentation water that is not required due to lifting the 59° F temperature requirement;

• The establishment of a list of restoration projects, and performing restoration projects during 2005 and future years;

• Developing an adaptive management plan for restoration projects;

• Working with stakeholders regarding the design and implementation of the demonstration and restoration projects;

• Test periods of times with no augmentation (beyond minimum flows in the East Branch Perkiomen Creek);

• The continuation of the Wadesville Mine Pool withdrawal and Stream Flow Augmentation Demonstration Project that was approved under Docket D-69-210 CP (Final) (Revision 11) and extended for two years by Commission Resolution No. 2003-25 adopted December 3, 2003.

2. Cabot Supermetals D-70-72 (REVISION). An application to upgrade an industrial wastewater treatment plant (IWTP) and implement manufacturing operation improvements necessary to meet water quality objectives in Swamp Creek, a tributary of Perkiomen Creek in the Schuylkill River Watershed. The applicant produces primary nonferrous metals and alloys plus inorganic chemicals at its Boyertown Facility, which is located on the east side of Wilson Avenue and straddles the borders of Douglass Township, Montgomery County and Colebrookdale Township, Berks County, both in Pennsylvania. No expansion of the 0.222 million gallon per day (mgd) IWTP is proposed. The plant effluent, along with storm water, cooling water and water supply treatment wastewater, will continue to be discharged to Swamp Creek via the existing outfall.

3. UTI Corporation—D-93-61 (G)-2. An application for the renewal of a ground water withdrawal project to supply up to 3.16 million gallons per 30 days (mg/30 days) of water to the applicant's ground water remediation system from existing Wells Nos. UTM-1 and UTM-11 in the Brunswick Formation. This renewal project represents a decrease in allocation from 6.5 mg/30 days to 3.16 mg/30 days. The project is located in the Perkiomen Creek Watershed in the Borough of Trappe in Montgomery County, in the Southeastern Pennsylvania Ground Water Protected Area.

4. Oley Township Municipal Authority D-2001-36 CP. An application for approval of a ground water withdrawal project to supply up to 2.16 million gallons per 30 days (mg/30 days) within the first year of operation from proposed Well No. 4 in the Granitic Gneiss Formation, to the applicant's public water supply system. In subsequent years, and based on the results of a monitoring program, the allocation from Well No. 4 may be incrementally increased up to 6.48 mg/30 days. The withdrawal from all wells will be limited to 12.94 mg/30 days. The project is located in the Little Manatawny Creek Watershed in Oley Township, Berks County, Pennsylvania.

5. Penn Estates Utilities, Inc. D-2003-36 CP. An application for approval of a ground water withdrawal project to supply up to 3.9 million gallons per 30 days (mg/30 days) of water to the applicant's Penn Estates development from new Well No. 7 in the Catskill Formation, and to increase the existing withdrawal from all wells to 10.80 mg/30 days. The project is located in the Brodhead Creek Watershed in Stroud Township, Monroe County, Pennsylvania.

6. Milford Township Water Authority D-2003-37 CP. An application for approval of a ground water withdrawal project to supply up to 6.48 million gallons per 30 days (mg/30 days) of water to the applicant's distribution system from new Well No. 5 in the Brunswick Formation, and to increase the existing withdrawal from all wells to 15.52 mg/30 days. The project is located in the Unami-Licking Creeks Watershed in Milford Township, Bucks County, Pennsylvania and is located in the Southeastern Pennsylvania Ground Water Protected Area.

7. Bedminster Municipal Authority D-2004-2 CP. An application for approval of a ground water withdrawal project to supply up to 7.136 million gallons per 30 days (mg/30 days) of water to the applicant's public water distribution system from new Wells A and E in the Brunswick Formation, and in conjunction with existing Wells Nos. 2 and 9, to increase the existing withdrawal from all wells to 10.705 mg/30 days. The project wells are located in the Deep Run Watershed in Bedminster Township, Bucks County, Pennsylvania in the Southeastern Pennsylvania Ground Water Protected Area.

8. Telford Borough Authority D-2004-10 CP. An application for approval of a ground water withdrawal project to supply up to 2.19 million gallons per 30 days (mg/30 days) of water to the applicant's public water distribution system from new Well No. 7 in the Brunswick Formation, and to retain the existing withdrawal from all wells to 38.6 mg/30 days. The project wells are located in the East Branch Perkiomen Creek Watershed in Telford Borough, Bucks and Montgomery Counties and West Rockhill and Hilltown Townships, Bucks County, all located in the Southeastern Pennsylvania Ground Water Protected Area.

9. Greenbriar Founders, LLC D-2004-26-1. An application for approval of a ground water withdrawal project to supply up to 16.5 million gallons per 30 days (mg/30 days) of water for supplemental irrigation of the applicant's proposed Ledgerock Golf Course from new Well IW-1 and up to 1.77 mg/30 days from new Well IW-2, both in the Hammer Creek Formation, and to initially limit the existing withdrawal from all wells to 16.5 mg/30 days. The initial combined allocation of 16.5 mg/30 days is provided to allow for establishment of the golf course turf grasses. Once the turf grasses are established, the combined allocation will be reduced to 8.25 mg/30 days. The project is located in the Angelica Creek Watershed in Cumru Township, Berks County, Pennsylvania.

10. New York City Department of Environmental Protection D-2004-28 CP-1. An application to modify a sewage treatment plant (STP) located at 4 Neversink Drive in the City of Port Jervis, Orange County, New York. The STP has a capacity of 5 million gallons per day and serves the City of Port Jervis. The existing plant provides secondary treatment, and discharges to the Neversink River, upstream from DRBC Special Protection Waters and the Delaware Water Gap National Recreation Area. The proposed modification, which constitutes Phase I of a multi-phase improvement project, involves the demolition of three Imhoff tanks and construction of two sedimentation basins, plus minor facility upgrades. No increase in STP capacity is proposed.

In addition to the public hearing on the dockets listed above, the Commission's 2:30 p.m. business meeting will include a public hearing and possible action on a resolution to amend Resolution No. 2002-33 relating to the operation of Lake Wallenpaupack during drought watch, drought warning and drought conditions, in order to restore a distinction between drought operation of Lake Wallenpaupack and drought operation of the Mongaup system reservoirs and to insert a reference to flow and temperature targets in the upper Delaware River and the West Branch Delaware, East Branch Delaware, and Neversink Rivers. The business meeting may include resolutions for the minutes to initiate notice and comment rulemakings amending the Water Quality Regulations, Water Code, and Comprehensive Plan to: (1) Designate the Lower Delaware River as Special Protection Waters; and (2) establish waste minimization plan requirements for point and non-point source discharges following issuance of a TMDL or assimilative capacity determination. In addition, the meeting will include: adoption of the Minutes of the July 13, 2004 business meeting; announcements; a report on Basin hydrologic conditions; a report by the executive director; a report by the Commission's general counsel; and an opportunity for public dialogue.

Draft dockets and the resolution scheduled for public hearing on September 1, 2004 will be posted on the Commission's web site, http://www.drbc.net, where they can be accessed through the Notice of Commission Meeting and Public Hearing. Additional documents relating to the dockets and other items may be examined at the Commission's offices. Please contact William Muszynski at (609) 883-9500 ext. 221 with any docket-related questions.

Individuals in need of an accommodation as provided for in the Americans with Disabilities Act who wish to attend the informational meeting, conference session or hearings should contact the Commission secretary directly at (609) 883-9500 ext. 203 or through the Telecommunications Relay Services (TRS) at 711, to discuss how the Commission may accommodate your needs.

Dated: August 12, 2004.
Pamela M. Bush,
Commission Secretary.

[FR Doc. 04-18887 Filed 8-17-04; 8:45 am]

BILLING CODE 6360-01-P